DEPARTMENT OF AGRICULTURE

Forest Service

Notice of Extension of Public Comment Period—Klamath National Forest Travel Management Draft Environmental Impact Statement

AGENCY: Forest Service, USDA.

ACTION: Notice of extension for public comment period.

SUMMARY: The Forest Service is extending the public comment period for the Travel Management Draft Environmental Impact Statements for the Klamath National Forest for an addition 15 days to August 4, 2009. The original notice called for comments to be submitted by July 20, 2009 (75 FR 27034, June 5, 2009).

DATES: Comments must be received in writing by August 4, 2009.

ADDRESSES: Send comments electronically to comments-pacificsouthwestklamath@fs.fed.us. Comments also may be submitted by mail to the Klamath National Forest, Attn: Jan Ford, 1312 Fairlane Road, Yreka, CA 96097, or by fax to (530) 841 4571. Comment sent via e-mail should use the subject line “Klamath NF Travel Management EIS.”

Comments received in response to this solicitation, including names and addresses of those who comment, will become part of the public record for this proposed action.

Comments submitted anonymously will be accepted and considered; however, anonymous comments may limit the respondent's ability to participate in subsequent administrative review or judicial review. The public may inspect comments received on this project at the Klamath National 1312 Fairlane Road, Yreka, CA 96097 on business days between 8:30 a.m. and 4 p.m.

FOR FURTHER INFORMATION CONTACT: Jan Ford, Klamath National Forest, 1312 Fairlane Road, Yreka, CA 96097; jaford@fs.fed.us, or (530) 841-4483.

Dated: July 6, 2009.
Patricia A. Grantham,
Forest Supervisor, Klamath National Forest.

[FR Doc. E9-16700 Filed 7-14-09; 8:45 am]

BILLING CODE 3410-11-M